FEDERAL COMMUNICATIONS COMMISSION

Notice of Public Information Collection(s) Being Reviewed by the Federal Communications Commission

April 21, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 29, 2003. If you anticipate that you will be submitting comments, but find it difficult to do so within the period of time allowed by this notice, you should advise the contact listed below as soon as possible.

ADDRESSES: Direct all comments regarding these Paperwork Reduction Act submissions to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0463.

Title: Telecommunications Relay Services and the Americans with Disabilities Act of 1990, 47 CFR Part 64.

Form No: N/A.

Type of Review: Revision of a currently approved collection.

Respondents: Business or other for-profit, state, local or tribal government.

Number of Respondents: 5,053.

Estimated Time Per Response: 6 hours.

Frequency of Response: On occasion, annual, every five years and one-time reporting requirements, recordkeeping requirement, and third party disclosure requirement.

Total Annual Burden: 26,837 hours.

Total Annual Cost: N/A.

Needs and Uses: In the Fifth Report and Order, CC Docket No. 90-571, FCC 02-269, the Commission eliminates the coin sent-paid requirement and encourages outreach and education programs to inform Telecommunications Relay Service (TRS) users of their options when placing calls from payphones. Because the Commission concludes that it is infeasible to provide coin sent-paid toll relay service through payphones at this time, and the coin sent-paid toll functionality is not necessary to achieve functional equivalence, carriers need not provide coin sent-paid toll TRS calls from payphones. The Fifth Report and Order requires carriers to continue to provide coin sent-paid local calls free to TRS users. The Fifth Report and Order requires carrier's via the Industry Team to submit a one-time report on the efforts industry has made to educate consumers on how to make toll coin sent-paid calls.

OMB Control No.: 3060-0876.

Title: USAC Board of Directors Nomination Process (47 CFR Section 54.703 and Review of Administrator's Decision (47 CFR Sections 54.719-54.725).

Form No: N/A.

Type of Review: Extension of a currently approved collection.

Respondents: Business or other for-profit, not-for-profit institutions.

Number of Respondents: 1,312.

Estimated Time Per Response: 20-32 hours.

Frequency of Response: On occasion reporting requirement and third party disclosure requirement.

Total Annual Burden: 41,840 hours.

Total Annual Cost: N/A.

Needs and Uses: Pursuant to 47 CFR 54.703, industry and non-industry groups may submit to the Commission for approval nominations for individuals to be appointed to the USAC Board of Directors. Sections 54.719-54.725 contain the procedures for Commission review of USAC decisions, including general filing requirements pursuant to which parties must file requests for review. The information is used by the Commission to select USAC's Board of Directors and to ensure that requests for review are filed properly with the Commission.

OMB Control No.: 3060-0901.

Title: Reports of Common Carriers and Affiliates.

Form No: N/A.

Type of Review: Extension of a currently approved collection.

Respondents: Business or other for-profit.

Number of Respondents: 20 respondents; 1,200 responses.

Estimated Time Per Response: 5 hours.

Frequency of Response: On occasion and one-time reporting requirements and third party disclosure requirement.

Total Annual Burden: 6,000 hours.

Total Annual Cost: N/A.

Needs and Uses: Common carriers must file copies of all contracts entered into with a communications entity in a foreign point for the provision of common carrier service between the United States and that foreign point. Carriers are exempt from this requirement if the carrier enters into such a contract with a carrier that lacks market power in the relevant foreign market. The information is used by Commission staff to monitor the operating agreements of the U.S. carriers and their foreign correspondents that possess market power, and in particular, to monitor the international accounting rates of such carriers to ensure consistency with Commission policies and the public interest. The information also enables the Commission to preclude one-way bypass and safeguard its international settlements policy.

OMB Control No.: 3060-0979.

Title: Spectrum Audit Letter.

Form No: N/A.

Type of Review: Revision of a currently approved collection.

Respondents: Individuals or households, business or other for-profit, not-for-profit institutions, and state, local or tribal government.

Number of Respondents: 310,000.

Estimated Time Per Response: .50 hours.

Frequency of Response: One-time reporting requirement.

Total Annual Burden: 155,000 hours.

Total Annual Cost: N/A.

Needs and Uses: The information collected is required for an audit of the construction and operational status of various Wireless Radio services in the Commission's licensing database that are subject to rule-based construction and operational requirements. The Commission's rules for these radio services require construction within a specified timeframe and require a station to remain operational in order for the license to remain valid. The Commission is revising this information collection to include and gather information from other radio services.

Federal Communications Commission.
Marlene H. Dortch,
Secretary.

[FR Doc. 03-10518 Filed 4-28-03; 8:45 am]

BILLING CODE 6712-01-P